DEPARTMENT OF COMMERCE

International Trade Administration

[A-570-932]

Certain Steel Threaded Rod From the People's Republic of China: Notice of Court Decision Not in Harmony With the Final Determination of Sales at Less-Than-Fair-Value and Notice of Amended Final Determination of Sales at Less-Than-Fair-Value and Amended Antidumping Duty Order Pursuant to Court Decision

AGENCY: Import Administration, International Trade Administration, Department of Commerce.

SUMMARY: On April 21, 2011, in litigation arising out of the Department of Commerce's (“Department”) final determination in the less-than-fair-value (“LTFV”) investigation of certain steel threaded rod (“steel threaded rod”) from the People's Republic of China (“PRC”),¹ the United States Court of International Trade (“CIT”) sustained the Department's results of redetermination. Pursuant to the CIT's remand order in Jiaxing Brother Fastener Co., Ltd. v. United States, Consol. Court No. 09-00205, Slip Op. 10-128 (November 16, 2010) (“Jiaxing Brother”), the Department found that the financial statements of the Indian company, Rajratan Global Wire Ltd. (“Rajratan”), are an appropriate source of data for calculating the surrogate financial ratios. See Jiaxing Brother Fastener Co., Ltd. v. United States, Consol. Court No. 09-00205, Slip Op. 11-44 (April 21, 2011) (“Jiaxing Brother II”). Consistent with the decision of the United States Court of Appeals for the Federal Circuit (“CAFC”) in Timken Co. v. United States, 893 F.2d 337 (Fed. Cir. 1990) (“Timken”), as clarified by Diamond Sawblades Mfrs. Coalition v. United States, 626 F.3d 1374 (Fed. Cir. 2010) (“Diamond Sawblades”), the Department is notifying the public that the final judgment in this case is not in harmony with the Department's Final Determination and is amending its Final Determination and Antidumping Duty Order.

¹ See Certain Steel Threaded Rod from the People's Republic of China: Final Determination of Sales at Less Than Fair Value, 74 FR 8907 (February 27, 2009) (“Final Determination”) and Certain Steel Threaded Rod from the People's Republic of China: Notice of Antidumping Duty Order, 74 FR 17154 (April 14, 2009) (“Antidumping Duty Order”).

.

DATES: Effective Date: May 2, 2011.

FOR FURTHER INFORMATION CONTACT: Toni Dach, AD/CVD Operations, Office 9, Import Administration, International Trade Administration, U.S. Department of Commerce, 14th Street and Constitution Avenue, NW., Washington DC 20230; telephone (202) 482-1655.

SUPPLEMENTARY INFORMATION:

Background

On February 27, 2009, the Department published the Final Determination of the investigation of steel threaded rod from the PRC. See Final Determination. In calculating surrogate financial ratios, pursuant to section 773(c) of the Tariff Act of 1930, as amended (the “Act”), the Department used financial statements for three Indian companies found by the Department to be producers of merchandise comparable to steel threaded rod. The Department determined not to use Rajratan's financial statement as part of that calculation upon concluding that Rajratan produced wire rod, a material input in the production of subject merchandise, which the Department found not to be comparable to finished steel products such as steel threaded rod. See Final Determination and accompanying Issues and Decision Memorandum at Comment 1.

After the Department published the Antidumping Duty Order, the RMB/IFI Group and its producer, Jiaxing Brother Fastener Co., Ltd. (collectively, “the RMB/IFI Group”), filed a timely action with the CIT challenging the Department's selection of financial statements in calculating surrogate financial ratios.

On November 16, 2010, the CIT issued its decision sustaining the Department's Final Determination except for the determination to reject the financial statement of Rajratan as part of its calculation of surrogate financial ratios. The CIT found that record evidence did not support the Department's conclusion that Rajratan manufactured wire rod, which is used as an input in the production of steel threaded rod. See Jiaxing Brother at 27-28. The CIT thus remanded the issue to the Department with instructions to reconsider the appropriateness of using Rajratan's financial statement in the calculation of surrogate financial ratios by analyzing the comparability of Rajratan's merchandise to the subject merchandise. Id. at 30.

On December 16, 2010, the Department issued its final results of redetermination pursuant to Jiaxing Brother. Pursuant to the CIT's remand order in Jiaxing Brother, we reexamined the Rajratan financial statements and found that Rajratan purchases wire rod, in addition to other raw materials, and produces downstream products from that wire rod input, namely p.c. wire and tyre bead wire. Thus, we determined on remand that Rajratan further manufactures wire rod into finished (or semi-finished) steel products in a manner similar to steel threaded rod and found that Rajratan is a producer of steel products comparable to the subject merchandise. As a consequence, because Rajratan is a producer of comparable steel products, we find that its production experience, and therefore financial experience, is comparable to that of steel threaded rod producers, and included its financial ratios in the average calculation of surrogate financial ratios.

The CIT sustained the Department's remand redetermination on April 21, 2011. See Jiaxing Brother II.

Timken Notice

In its decision in Timken, 893 F.2d at 341, as clarified by Diamond Sawblades, the CAFC has held that, pursuant to section 516A(e) of the Act, the Department must publish a notice of a court decision that is not “in harmony” with a Department determination and must suspend liquidation of entries pending a “conclusive” court decision. The CIT's April 21, 2011, judgment sustaining the Department's remand redetermination that Rajratan is a producer of steel products comparable to the subject merchandise constitutes a final decision of that court that is not in harmony with the Department's Final Determination. This notice is published in fulfillment of the publication requirements of Timken. Accordingly, the Department will suspend liquidation of the subject merchandise effective May 2, 2011, pending the expiration of the period of appeal or, if appealed, pending a final and conclusive court decision or pending establishment of a new cash deposit rate in a completed administrative review of the Antidumping Duty Order.

Amended Final Determination and Order

Because there is now a final court decision with respect to the inclusion of Rajratan in the average calculation of surrogate financial ratios, RMB/IFI Group's revised cash deposit rate is 47.37%. In accordance with sections 735(c)(1)(B) of the Act, the Department will instruct U.S. Customs and Border Protection to collect cash deposits at the rate indicated.

This notice is issued and published in accordance with sections 516A(c)(1), 735(d), 736(a), and 777(i)(1) of the Act.

Dated: May 4, 2011.
Ronald K. Lorentzen,
Deputy Assistant Secretary for Import Administration.

[FR Doc. 2011-11571 Filed 5-10-11; 8:45 am]

BILLING CODE 3510-DS-P